DEPARTMENT OF THE INTERIOR

National Park Service

Juan Bautista de Anza National Historic Trail Advisory Commission; Notice of Meeting

SUMMARY: Notice is given in accordance with the Federal Advisory Committee Act that the third meeting of the Juan Bautista de Anza National Historic Trail Advisory Commission will be held as follows:

DATES/TIMES: Saturday, November 13, from 8 a.m. to 4:30 p.m. and Sunday, November 14, 2004, from 8 a.m. to 12 p.m.

ADDRESSES: The meeting will be held at Santa Clara University, 500 El Camino Real, Santa Clara, California. The meeting on November 13 will be in the Seminar Room of Casa Italiana and on November 14 in the Weigand Room, Arts and Sciences Building. For a map of the campus go to http://www.scu.edu/map/. Saturday afternoon there will be a tour of Mission Santa Clara Asís. The public is welcome.

FOR FURTHER INFORMATION AND COPIES OF MEETING MINUTES CONTACT: Meredith Kaplan, Juan Bautista de Anza National Historic Trail, 1111 Jackson Street, Suite 700, Oakland, California 94607, at (510) 817-1438, or meredith_kaplan@nps.gov.

SUPPLEMENTARY INFORMATION: The Advisory Commission was established in accordance with the National Trails System Act (915 U.S.C. 1241 et seq), as amended by Public Law 191-365 to consult with the Secretary of Interior on planning and other matters relating to the trail.

Agenda

1. Welcome

2. Review trail status

3. Web de Anza update

4. Subcommittee report on forming a foundation or friends group

5. Approve or reject forming non-profit friends group or foundation

6. Discuss promotion and implementation strategies

This meeting is open to the public and opportunity will be provided for public comments at specific times during the meeting and prior to closing the meeting. The meeting will be recorded for documentation and transcribed for dissemination. Minutes of the meeting will be available to the public after approval of the full Advisory Commission.

Dated: October 4, 2004.
Jonathan B. Jarvis,
Regional Director, Pacific West Region.

[FR Doc. 04-24983 Filed 11-9-04; 8:45 am]

BILLING CODE 4312-52-P